CORPORATION FOR NATIONAL AND COMMUNITY SERVICE

Agency Information Collection Activities; Submission to the Office of Management and Budget for Review and Approval; Comment Request; Application Package for Applicant Operational and Financial Management Survey

AGENCY: Corporation for National and Community Service.

ACTION: Notice of information collection; request for comment.

SUMMARY: The Corporation for National and Community Service (operating as AmeriCorps) has submitted a public information collection request (ICR) entitled Applicant Operational and Financial Management Survey for review and approval in accordance with the Paperwork Reduction Act.

DATES: Written comments must be submitted to the individual and office listed in the ADDRESSES section by August 6, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Linda Southcott, at 202-606-6638 or by email to lsouthcott@cns.gov.

SUPPLEMENTARY INFORMATION: OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 1, 2021 at 86:17140. This comment period ended June 1, 2021. No public comments were received from this Notice.

Title of Collection: Applicant Operational and Financial Management Survey.

OMB Control Number: 3045-0102. Type of Review: Renewal.

Respondents/Affected Public: Businesses and Organizations and State, Local or Tribal Governments.

Total Estimated Number of Annual Responses: 1,500.

Total Estimated Number of Annual Burden Hours: 3,000.

Abstract: This survey is intended to collect information about the capacity of applicants to manage federal grant funds. Per 2 CFR 200.205, AmeriCorps must evaluate the degree of risk posed by an applicant. Information from the survey will be used to assess an organization's operational and financial management capabilities prior to receiving a federal award and may also be used to support future monitoring activities, should the applicant receive federal funds from AmeriCorps. AmeriCorps seeks to renew the current information collection. The information collection will otherwise be used in the same manner as the existing application. The currently approved information collection expired on May 30, 2021 and AmeriCorps seeks to continue using the currently approved information collection until the revised information collection is approved by OMB.

Dated: June 30, 2021.
Linda Southcott,
Director, Office of Monitoring.

[FR Doc. 2021-14363 Filed 7-6-21; 8:45 am]

BILLING CODE 6050-28-P